DEPARTMENT OF LABOR

Mine Safety and Health Administration

Petitions for Modification of Application of Existing Mandatory Safety Standard

AGENCY: Mine Safety and Health Administration, Labor.

ACTION: Notice.

SUMMARY: This notice is a summary of a petition for modification submitted to the Mine Safety and Health Administration (MSHA) by the party listed below.

DATES: All comments on the petition must be received by MSHA's Office of Standards, Regulations, and Variances on or before September 19, 2018.

ADDRESSES: You may submit your comments, identified by “docket number” on the subject line, by any of the following methods:

1. Email: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect a copy of the petition and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (voice), barron.barbara@dol.gov (email), or 202-693-9441 (fax). [These are not toll-free numbers.]

SUPPLEMENTARY INFORMATION: Section 101(c) of the Federal Mine Safety and Health Act of 1977 and Title 30 of the Code of Federal Regulations Part 44 govern the application, processing, and disposition of petitions for modification.

I. Background

Section 101(c) of the Federal Mine Safety and Health Act of 1977 (Mine Act) allows the mine operator or representative of miners to file a petition to modify the application of any mandatory safety standard to a coal or other mine if the Secretary of Labor (Secretary) determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petition for Modification

Docket Number: M-2018-006-M.

Petitioner: U.S. Silica Company, 838 VFW Drive, Festus, Missouri 63028.

Mines: Festus Plant, MSHA I.D. No. 23-02377, located in Jefferson County, Missouri.

Regulation Affected: 30 CFR 56.13020 (Use of compressed air).

Modification Request: The petitioner requests a modification of the existing standard to permit an alternative method using a Clothes Cleaning Process that removes dust from a miner's clothing.

The petitioner states that:

(1) The proposed alternative method has been developed jointly between UniminCorporation and the National Institute for Occupational Safety and Health (NIOSH and successfully tested by NIOSH to reduce a miner's exposure to respirable dust, thus reducing the miner's health risks. The system consists of four major components: a cleaning booth, an air spray manifold, an air reservoir, and an exhaust ventilation system.

(2) Only miners trained in the operation of the cleaning booth will be permitted to use the booth to clean their clothes.

(3) Petitioner will incorporate the Clothes Cleaning Process and manufacturer's instruction manuals into their MSHA Part 48b training plan and train affected miners in the process.

(4) Miners entering the booth will examine valves and nozzles for damage or malfunction and will close the door fully before opening the air valve. Any defects will be repaired prior to the booth being used.

(5) Miners entering the booth will wear eye protection, ear plugs or muffs for hearing protection, and respiratory protection. Respiratory protection will consist of a full-face or half-mask respirator that meets or exceeds the minimum requirements of a N95 filter to which the miner has been fit-tested. As an alternative, the use of a full-face respirator will meet the requirements for eye protection. A sign will be conspicuously posted requiring the above personal protective equipment when the booth is entered.

(6) Air flow through the booth will be at least 2,000 cubic feet per minute to maintain negative pressure during use of the cleaning system in order to prevent contamination of the environment outside the booth. Airflow will be in a downward direction, thereby moving contaminants away from the miner's breathing zone.

(7) Air pressure through the spray manifold will be limited to 30 pounds per square inch or less. A lock box with a single, plant manager controlled key will be used to prevent regulator tampering.

(8) The air spray manifold will consist of schedule 80 steel pipe that has a failure pressure of 1,300 pounds per square inch and will be capped at the base and actuated by an electrically controlled ball valve at the top.

(9) Air nozzles must not exceed 30 pound(s) per square inch gauge.

(10) The upper most spray of the spray manifold will be located below the booth users breathing zone. Some type of mechanical device can be used to cover the upper air nozzles to meet the specific height of the user.

(11) Air nozzles will be guarded to eliminate the possibility of incidental contact, which could create mechanical damage to the air nozzles during the clothes cleaning process.

(12) Petitioner will conduct periodic maintenance checks of the booth in accordance with the recommendations contained in the manufacture's instruction manual.

(13) The air reservoir tank supplying air to the manifold system will be of sufficient volume to permit no less than 20 seconds of continuous cleaning time.

(14) An appropriate hazard warning sign will be posted on the booth to state at a minimum, “Compressed Air” and “Respirable Dust”.

(15) A pressure relief valve designed for the booth's air reservoir will be installed.

(16) The mine will exhaust dust-laden air from the booth into a local exhaust ventilation system or duct outside the facility while ensuring there is no re-entrainment back into the structure.

The petitioner asserts that proposed alternative method will at all times guarantee no less than the same measure of protection afforded by the standard.

Sheila McConnell,
Director, Office of Standards, Regulations, and Variances.

[FR Doc. 2018-17886 Filed 8-17-18; 8:45 am]

BILLING CODE 4520-43-P